DEPARTMENT OF JUSTICE

Drug Enforcement Administration

Manufacturer of Controlled Substances; Notice of Application

Pursuant to § 1301.33(a), Title 21 of the Code of Federal Regulations (CFR), this is notice that on March 14, 2011, Pharmagra Labs, Inc., 158 McLean Road, Brevard, North Carolina 28712, made application to the Drug Enforcement Administration (DEA) to be registered as a bulk manufacturer of Pentobarbital (2270), a basic class of controlled substance listed in schedule II.

The company plans to manufacture the listed substances for analytical research and clinical trials.

Any other such applicant, and any person who is presently registered with DEA to manufacture such substances, may file comments or objections to the issuance of the proposed registration pursuant to 21 CFR 1301.33(a).

Any such comments or objections should be addressed, in quintuplicate, to the Drug Enforcement Administration, Office of Diversion Control, Federal Register Representative (ODL), 8701 Morrissette Drive, Springfield, Virginia 22152; and must be filed no later than August 29, 2011.

Dated: June 22, 2011.
Joseph T. Rannazzisi,
Deputy Assistant Administrator, Office of Diversion Control, Drug Enforcement Administration.

[FR Doc. 2011-16294 Filed 6-28-11; 8:45 am]

BILLING CODE 4410-09-P